AGENCY FOR INTERNATIONAL DEVELOPMENT

22 CFR Part 211

[A.I.D. Reg 11]

RIN 0412-AA54

Transfer of Food Commodities for Use in Disaster Relief, Economic Development and Other Assistance

AGENCY: Agency for International Development.

ACTION: Advance notice of proposed rulemaking.

SUMMARY: The USAID Office of Food for Peace proposes to amend and update 22 CFR part 211, the primary regulatory document governing the transfer of commodities to non-governmental organizations under Title II of the Agricultural Trade Development and Assistance Act of 1954. The purpose of rewriting this regulation is to bring the rule in line with legislative changes made in both the 1996 and 2002 Farm Bills, (Farm Security and Rural Investment Act of 2002, and Federal Agriculture Improvement and Reform Act of 1996), as well as to update the overall financial and programmatic procedural and reporting requirements. Changes are expected to update and clarify standard operating procedures, resulting in more efficient and streamlined management of Title II programs.

DATES: Submit comments on or before September 18, 2004.

ADDRESSES: Mail or hand deliver comments to Lisa Witte, USAID/DCHA/FFP, 1300 Pennsylvania Avenue, NW., Rm. 7.06-102; Washington, DC 20523. Telephone: (202) 712-5162. Submit electronic comments and other relevant data to reg11@usaid.gov.

FOR FURTHER INFORMATION CONTACT: Lisa Witte, (202) 712-5162.

SUPPLEMENTARY INFORMATION:

Electronic Access and Filing

You may submit comments and data by sending electronic mail (e-mail) to: reg11@usaid.gov. Submit comments as a Word file avoiding the use of special characters and any form of encryption.

Background

Title II of Pub. L. 480, as amended authorizes appropriation of resources intended to combat hunger and malnutrition through support to activities that raise the level of availability, access and utilization of food in recipient countries. Title II programs are the responsibility of the United States Agency for International Development Bureau for Democracy, Conflict and Humanitarian Assistance, Office of Food for Peace.

22 CFR part 211 is the primary regulatory document governing the transfer of commodities to non-governmental organization (NGO) programs. The document is out of date as it was last revised in 1992 following the 1990 Farm Bill. Thus, a re-written regulation with up to date guidance reflecting the significant legislative changes that have occurred (1996 and 2002 Farm Bills) and revised financial and programmatic reporting requirements is necessary. This effort will be a tremendous benefit to the overall management of Title II programs.

For the reasons discussed in the preamble, examples of what USAID proposes to amend in 22 CFR part 211 are as follows:

1. Revise the overall organization of 22 CFR part 211 in accordance with all Federal Register publication requirements and Office of the Federal Register document drafting resources.

2. Update legislative regulatory references and references to agency policy and program guidelines.

3. Update and clarify definitions of and references to FFP/W, Missions, USAID, diplomatic posts, M/OP/TRANS, M/FM, USDA/Washington and Kansas City. Ensure references to these entities are used consistently throughout the regulation in terms of roles, decision-making and re-delegations of authority. Update existing definitions as well as new conceptual terms in accordance with Food for Peace's new strategic plan, policy and legislation.

4. Update program application process, program procedures, closeout and disposition guidance, and terminology used throughout the regulation. Ensure consistency with 22 CFR part 226 and OMB Circular A-110.

5. Update deposit and account information.

6. Update commodity and shipping procedures as well as the ocean carrier loss and damage section.

7. Revise language on displacement of sales to be written in the context of usual marketing requirements (UMR) as promulgated by USDA.

8. Revise commodity transfer language in § 211.5(o) in accordance with Development Assistance Program (DAP) guidance.

9. Revise to increase dollar thresholds throughout regulation to reflect more appropriate levels of USAID mission and PVO responsibility, considering use of blanket waivers in lieu of thresholds where suitable.

10. Clarify the use of collected claims proceed types in § 211.9: monetized commodity, program income and commodity loss; clarify where to deposit claims proceeds; revise thresholds. Clarify the differences in (a) marine claims/losses, and (b) inland and/or third party losses.

This request for comments provides a summary description of possible changes and is not limited to the foregoing. USAID/DCHA/FFP also seeks comments and/or suggestions concerning other issues that may affect the implementation of the Transfer of Food Commodities under Title II of Pub. L. 480 and whether FFP's regulations should be amended or modified in light of such issues.

List of Subjects in 22 CFR Part 211

Agricultural commodities, Disaster assistance, Food assistance programs, Foreign aid, Non-profit organizations, Reporting and recordkeeping requirements.

Authority: 7 U.S.C. 1726a(c).

Dated: August 13, 2004.
Lauren Landis,
Office Director for the Office of Food for Peace, Bureau of Democracy, Conflict and Humanitarian Assistance, United States Agency for International Development.

[FR Doc. 04-19007 Filed 8-18-04; 8:45 am]

BILLING CODE 6116-01-P